DEPARTMENT OF JUSTICE

Notice of Lodging of Consent Decree Under the Clean Water Act and RCRA

Under 28 CFR 50.7, notice is hereby given that on May 11, 2006, a proposed Consent Decree in United States and State of Texas v. City of Dallas, Civil Action No. 3:06-CV-0845-B, was lodged with the United States District Court for the Northern District of Texas.

The United States alleged that the City of Dallas (the “City”) violated the Clean Water Act, 33 U.S.C. 1251-1387, by failing to fully and timely implement the City's storm water management program, part of the City's NPDES permit. The United States sought injunctive relief and civil penalties to address the Clean Water Act violations, and civil penalties for miscellaneous violations at City-owned facilities of the Solid Waste Disposal Act, 42 U.S.C. 6901-6992k, also known as the Resource Conservation and Recovery Act (“RCRA”).

Under the Consent Decree, the City will (i) pay a civil penalty of $800,000, (ii) spend at least $1.2 million on two supplemental environmental projects, (iii) hire and keep on staff specified numbers and kinds of employees to implement the City's storm water program, (iv) carry out inspections of industrial facilities, construction sites, and storm water outfalls at specified intervals, and (v) implement an environmental management system to twelve facilities.

The first supplemental environmental project requires the City to spend at least $675,000 to construct a wetland, at least 60-acres in size, along the Trinity River downstream of Sylvan Avenue in the vicinity of the Pavaho pump station. Before beginning construction, the City must submit a detailed plan for review by the U.S. Environmental Protection Agency (“EPA”). The second project requires the installation of a small wetland near Cedar Creek, that, in conjunction with small biological treatment units, shall be designed to treat runoff from at least 15 acres of the Zoo. The treatment train will be designed to maximize the amount of treated water that can be used in drip irrigation at the Zoo and to safely discharge water not used in irrigation to Cedar Creek.

The United States Department of Justice will receive for a period of thirty (30) days from the date of this publication comments relating to the Consent Decree. Comments should be addressed to the Assistant Attorney General, Environment and Natural Resources Division, P.O. Box 7611, U.S. Department of Justice, Washington, DC 20044-7611, and should refer to United States and State of Texas v. City of Dallas, D.J. Ref. No. 90-5-1-1-08359.

During the public comment period, the Consent Decree may be examined on the following Department of Justice Web site: http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. If requesting from the Consent Decree Library a full copy of the Consent Decree including all its attachments, please enclose a check in the amount of $69.75 (25 cents per page reproduction cost) payable to the U.S. Treasury. If requesting a copy of the Consent Decree with all attachments except Appendix H (the City's Storm Water Management Plan) and I (February 2004 Compliance Order), please enclose a check in the amount of $19.75 payable to the U.S. Treasury.

Thomas A. Mariani, Jr.,
Assistant Section Chief, Environmental Enforcement Section, Environment and Natural Resources Division.

[FR Doc. 06-4582 Filed 5-16-06; 8:45 am]

BILLING CODE 4410-15-M